DEPARTMENT OF HEALTH AND HUMAN SERVICES

Substance Abuse and Mental Health Services Administration

Suspension of a Laboratory Which No Longer Meets Minimum Standards to Engage in Urine Drug Testing for Federal Agencies

AGENCY: Substance Abuse and Mental Health Services Administration, HHS.

ACTION: Notice.

SUMMARY: The Department of Health and Human Services routinely publishes a list of laboratories in the Federal Register that are currently certified to meet standards of Subpart C of the Mandatory Guidelines for Federal Workplace Drug Testing Programs (59 FR 29925) dated June 9, 1994. This notice informs the public that effective October 6, 2003 the following laboratory's certification is suspended:

Doctors Laboratory, Inc., 2906 Julia Drive, P.O. Box 2658, Valdosta, Georgia 31602.

FOR FURTHER INFORMATION CONTACT: Donna M. Bush, Ph.D., Division of Workplace Programs, CSAP, 5600 Fishers Lane, Rockwall II, Suite 815, Rockville, Maryland 20857, 301-443-6014 (voice), 301-443-3031 (fax).

Anna Marsh,
Acting Executive Officer, SAMHSA.

[FR Doc. 03-25982 Filed 10-14-03; 8:45 am]

BILLING CODE 4160-20-P